DEPARTMENT OF COMMERCE

National Oceanic and Atmospheric Administration

50 CFR Part 216

[Docket No. 000720213-0213-01; I.D. 062000C]

RIN 0648-AO40

Marine Mammals; Subsistence Taking of Northern Fur Seals; Harvest Estimates

AGENCY: National Marine Fisheries Service (NMFS), National Oceanic and Atmospheric Administration (NOAA), Commerce.

ACTION: Proposed estimates of annual fur seal subsistence needs; request for comments.

SUMMARY: Pursuant to the regulations governing the subsistence taking of northern fur seals, this action proposes annual estimates of fur seal subsistence needs for 2000 through 2002 on the Pribilof Islands, Alaska, and summarizes the annual fur seal subsistence harvests on St. George and St. Paul Islands (the Pribilof Islands) for 1997 through 1999. NMFS solicits public comments on the proposed estimates.

DATES: Written comments must be received at the appropriate address or fax number (See ADDRESSES) no later than 5 p.m., eastern daylight time, on September 8, 2000.

ADDRESSES: Comments or requests for a copy of the draft Environmental Assessment should be addressed to the Chief, Marine Mammal Division, Office of Protected Resources, 1315 East-West Highway, Silver Spring, MD 20910. Comments also may be sent via facsimile (fax) to (301) 713-4060. Comments will not be accepted if submitted via email or Internet.

FOR FURTHER INFORMATION CONTACT: Dave Cormany, (907) 271-3024, fax (907) 271-3030, email Dave.Cormany@noaa.gov; Michael Payne, (907) 586-7235, fax (907) 586-7012, email Michael.Payne@noaa.gov; or Thomas Eagle, (301) 713-2322, ext. 105, fax (301) 713-4060, email Tom.Eagle@noaa.gov.

SUPPLEMENTARY INFORMATION: The subsistence harvest from the depleted stock of northern fur seals, Callorhinus ursinus, on the Pribilof Islands, Alaska, is governed by regulations found in 50 CFR part 216, subpart F. The purpose of these regulations, published under the authority of the Fur Seal Act (FSA), 16 U.S.C. 1151, et seq., and the Marine Mammal Protection Act (MMPA), 16 U.S.C. 1361, et seq., is to limit the take of fur seals to a level providing for the subsistence needs of the Pribilof residents, while restricting taking by sex, age, and season for herd management purposes. To further minimize negative effects on the Pribilof Islands' fur seal population, the harvest has been limited to a 47-day season (June 23—August 8).

Pursuant to the regulations governing the taking of fur seals for subsistence purposes, NMFS must publish a summary of the fur seal harvest for the previous 3-year period and an estimate of the number of seals expected to be taken in the subsequent 3-year period to meet the subsistence needs of the Aleut residents of the Pribilof Islands.

Summary of Harvest Operations and Monitoring 1997-1999

The annual harvests were conducted in the established manner and employed the standard methods required under regulations at 50 CFR 216.72. NMFS personnel monitored each daily harvest and worked closely with the tribal governments of each island to further improve the efficiency of the annual harvest and full utilization of the animals taken. NMFS personnel also monitored the disposal of by-products of the subsistence harvest in an effort to ensure that certain parts, such as bacula, of harvested seals were not taken illegally and that waste of edible portions was not occurring.

The number of northern fur seals harvested on St. Paul Island from 1986 to 1999 ranged from 1,000 to 1,710, and the number harvested on St. George Island from 1986 to 1999 ranged from 92 to 319 seals. The actual number of animals harvested has never reached the upper end of the estimated take range for either island and has reached the lower limit only once on St. Paul (1991) and twice on St. George (1991, 1993) in the past 10 years. The average number of seals harvested during the past 10 years on St. Paul and St. George Islands has been 1,524 seals (range: 1,000 to 1,645) and 247 seals (range: 193 to 319), respectively (Table 1).

Beginning with the 1995 harvest, the tribal government of St. Paul voluntarily eliminated the “butterfly cut” as a standard method of field dressing harvested seals and resolved to utilize more of the carcass from each animal. Only whole carcasses were removed from the harvesting field. The following exceptions, as permitted by the tribal government, are: (a) Those animals taken to accommodate some of the elder residents who are physically unable to butcher whole animals supplied to them by the tribal government, and; (b) those carcasses in which the gall bladder was inadvertently ruptured, thus contaminating some of the meat with bile. A total of 12 butterfly cuts (0.29 percent of the combined Pribilof total take of 4,126 seals for the 3 years 1997-1999), were taken from the field under these exceptions.

As a result of the elimination of the butterfly cut as a standard field dressing method and because the removal of whole carcasses constitutes full utilization of the edible portions of harvested seals, NMFS determined that continuing the percent-use calculations previously applied to the harvest was no longer necessary. The butterfly cut was never a standard field dressing method on St. George Island; therefore, removal of only whole carcasses from the harvesting field is now a uniform practice in the Pribilofs.

Regarding the utilization of the inedible portions of harvested seals, the tribal governments of both islands have implemented a program that promotes full utilization of inedible seal parts for traditional arts, crafts, and other uses permitted under regulations at 50 CFR 216.73. The result has been an expanded use of these materials by the Aleut residents and increased fulfillment of the non-wasteful harvest requirements.

From 1997 through 1999, NMFS and the tribal governments of both islands worked closely and successfully to improve the conduct of the subsistence harvest and to promote full utilization of all the products thereof. Through the emerging co-management process, NMFS and tribal authorities have developed a cooperative and collaborative working relationship, which increases local participation and responsibility regarding subsistence uses of fur seals and other marine mammals on and around the Pribilofs. Among the improvements realized through this process from 1997 to 1999 were a lower incidence of heat stroke and fewer females or bulls being accidentally struck. NMFS anticipates that this effort and process will continue to progress and significant harvest improvements are planned or being implemented for the annual harvests 2000—2002.

Table 1. Subsistence Harvest Levels for Northern Fur Seals on the Pribilof Islands, 1985-1999
Subsistence Take Ranges: Year | Subsistence Take Ranges: St.Paul | Subsistence Take Ranges: St.George | Actual Harvest Levels: St.Paul | Actual Harvest Levels: St.George
1985 |  |  | 3,384 | 329
1986 | 2,400-8,000 | 800-1,800 | 1,299 | 124
1987 | 1,600-2,400 | 533-1,800 | 1,710 | 92
1988 | 1,800-2,200 | 600-740 | 1,145 | 113
1989 | 1,600-1,800 | 533-600 | 1,340 | 181
1990 | 1,145-1,800 | 181-500 | 1,077 | 164
1991 | 1,145-1,800 | 181-500 | 1,645 | 281
1992 | 1,645-2,000 | 281-500 | 1,482 | 194
1993 | 1,645-2,000 | 281-500 | 1,518 | 319
1994 | 1,645-2,000 | 281-500 | 1,616 | 161
1995 | 1,645-2,000 | 281-500 | 1,525 | 260
1996 | 1,645-2,000 | 281-500 | 1,591 | 232
1997 | 1,645-2,000 | 300-500 | 1,153 | 227
1998 | 1,645-2,000 | 300-500 | 1,297 | 256
1999 | 1,645-2,000 | 300-500 | 1,000 | 193

Estimate of Subsistence Need for the Period 2000—2002

The projected subsistence harvest estimates are given as a range, the lower end of which may be exceeded if NMFS is given notice and the Assistant Administrator for Fisheries, NOAA, determines that the annual subsistence needs of the Pribilof Aleuts have not been satisfied. Conversely, the harvest can be terminated before the lower end of the range is reached if the annual subsistence needs of the Pribilof residents are determined to have been met or the harvest has been conducted in a wasteful manner.

In September 1996, NMFS requested that the tribal government of each island determine the number of fur seals that would be needed by their communities each year for the 3-year period 1997 through 1999. The response from the St. Paul Island tribal government was to maintain the current range of 1,645-2,000 seals. The St. George Island tribal government requested that the lower end range be increased from 281 to 300 seals and that the upper bound remain at 500 seals. NMFS determined that the continuing decline of the island's economy had resulted in an increased rate of unemployment and, thus, a greater reliance on subsistence harvesting of food resources by the Aleut residents of St. George Island to meet their needs for the 1997-1999 period. In response to the information provided by the tribal governments of St. Paul and St. George Islands, the estimated range on St. Paul Island for each of the years 1997 to 1999 remained the same as was established for the years 1994 through 1996 (1,645 to 2,000), and that the annual range on St. George Island for the years 1997 through 1999, was 300-500 seals.

In 1999, NMFS and the Tribal Government of St. Paul (TGSNP) initiated discussions under Section 119 of the MMPA regarding co-management of the subsistence uses of marine mammals in Alaska. These discussions produced a final draft agreement between the NMFS and TGSNP which has been submitted for approval and signature by the respective parties. Discussions have also been initiated with the Tribal Community of St. George regarding a section 119 agreement under the MMPA which is expected to be negotiated within this year.

For the 3 year period, 2000-2002, NMFS proposes no change to the past and current ranges of 1,645-2,000 for St. Paul Island and 300-500 for St. George Island. Retaining these levels will provide adequate flexibility for further refinement of annual harvest levels through the co-management process.

As described earlier in this document, if the Aleut residents of either island reach the lower end of this yearly harvest estimate and have unmet subsistence needs and no indication of waste, they may request an additional number of seals up to the upper limit of the respective harvest estimates. The residents of St. George and St. Paul Islands may substantiate any additional need for seals by submitting in writing the information upon which they base their decision that subsistence needs are unfulfilled. The regulations at 50 CFR 216.72(e)(1) and (3) require a suspension of the fur seal harvest for up to 48 hours once the lower end of the estimated harvest level is reached. The suspension is to last no more than 48 hours, followed either by a finding that the subsistence needs have been met or by a revised estimate of the number of seals necessary to satisfy the Aleuts' subsistence needs. NMFS seeks public comments on the proposed estimates (see ADDRESSES).

The harvest of fur seals is anticipated to be non-wasteful and in compliance with the regulations specified at 50 CFR 216.72. NMFS will continue to monitor the harvest on St. Paul Island and St. George Islands during 2000-2002.

Electronic Access

The draft Environmental Assessment for this action is accessible via the Internet at the following address:

http://www.nmfs.noaa.gov/prot_res/depleted/furseal.html.

Classification

National Environmental Policy Act

A draft Environmental Assessment is available for this action (see ADDRESSES).

Executive Order 12866 and Regulatory Flexibility Act

The Assistant Administrator for Fisheries, NOAA, has determined that this is not a significant rule under Executive Order 12866. The regulations are not likely to result in (1) an annual effect on the economy of $100 million or more; (2) a major increase in costs or prices for consumers, individual industries, Federal, state, or local government agencies, or geographic regions; or (3) a significant adverse effect on competition, employment, investment, productivity, innovation, or on the ability of U.S.-based enterprises to compete with foreign-based enterprises in domestic or export markets. The General Counsel, Department of Commerce, certified to the Chief Counsel for Advocacy of the Small Business Administration that this proposed action would not have a significant economic impact on a substantial number of small entities. Therefore, a regulatory flexibility analysis was not prepared.

Paperwork Reduction Act

This proposed action does not require the collection of information.

Executive Order 13132—Federalism

This proposed action does not contain policies with federalism implications sufficient to warrant preparation of a federalism assessment under Executive Order 13132 because this action does not have substantial direct effects on the states, on the relationship between the national government and the states, or on the distribution of power and responsibilities among the various levels of government. Nonetheless, NMFS worked closely with local governments in the Pribilof Islands, and these estimates of subsistence needs were prepared by the local governments in St. Paul and St. George, with assistance from NMFS officials.

Executive Order 13084—Consultation and Coordination with Indian Tribal Governments

Executive Order 13084 requires that if NMFS issues a regulation that significantly or uniquely affects the communities of Indian tribal governments and imposes substantial direct compliance costs on those communities, NMFS must consult with those governments, or the Federal government must provide the funds necessary to pay the direct compliance costs incurred by the tribal governments. This action does not impose substantial direct compliance costs on the communities of Indian tribal governments. Accordingly, the requirements of section 3(b) of Executive Order 13084 do not apply to this action.

Nonetheless, NMFS took several steps to work with affected tribal governments to prepare and implement the proposed action. These steps included discussions on subsistence needs and mechanisms to ensure that the harvest is conducted in a non-wasteful manner. NMFS and the Tribal Government of St. Paul are negotiating a cooperative agreement pursuant to section 119 of the MMPA to govern future harvests.

Dated: August 3, 2000.
William T. Hogarth,
Deputy Assistant Administrator for Fisheries, National Marine Fisheries Service.

[FR Doc. 00-20163 Filed 8-8-00; 8:45 am]

BILLING CODE 3510-22-F